DEPARTMENT OF AGRICULTURE

Forest Service

Notice of Central Idaho Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 110-343), the Salmon-Challis National Forest's Central Idaho Resource Advisory Committee will conduct a business meeting which is open to the public.

DATES: Tuesday, February 23, 2010, beginning at 5 p.m.

ADDRESSES: Public Lands Center, 1206 South Challis Street, Salmon, Idaho.

SUPPLEMENTARY INFORMATION: Agenda topics will include review of RAC 2010 projects, possible approval of RAC project proposals, and other RAC business. The meeting is an open public forum. Some RAC members may attend the meeting by conference call or electronically.

FOR FURTHER INFORMATION CONTACT: Lyle E. Powers, Acting Forest Supervisor and Designated Federal Officer, at 208-756-5557.

Dated: January 22, 2010.
Lyle E. Powers,
Acting Forest Supervisor, Salmon-Challis National Forest.

[FR Doc. 2010-1817 Filed 1-29-10; 8:45 am]

BILLING CODE 3410-11-M